POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: November 19, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated service agreement product category and number | MC Docket No. | K Docket No.
11/10/25 | PM 943 | MC2026-88 | K2026-88
11/10/25 | PM-GA 913 | MC2026-89 | K2026-89
11/10/25 | PM-GA 914 | MC2026-90 | K2026-90
11/12/25 | PM-GA 915 | MC2026-91 | K2026-92
11/13/25 | PM-GA 916 | MC2026-93 | K2026-94
11/13/25 | PM-GA 917 | MC2026-94 | K2026-95
11/13/25 | PME-PM-GA 1458 | MC2026-95 | K2026-96
11/13/25 | PM-GA 918 | MC2026-96 | K2026-97
11/13/25 | PM 944 | MC2026-97 | K2026-98
11/13/25 | PM-GA 919 | MC2026-98 | K2026-99

Documents are available at www.prc.gov.

Sean C. Robinson,
Attorney, Corporate and Postal Business Law.

[FR Doc. 2025-20245 Filed 11-18-25; 8:45 am]

BILLING CODE 7710-12-P